NUCLEAR REGULATORY COMMISSION

[NRC-2016-0056]

Fees Development and Communications

AGENCY: Nuclear Regulatory Commission.

ACTION: Request for information.

SUMMARY: The U.S. Nuclear Regulatory Commission (NRC) is requesting information from the public on a number of issues associated with the development of the agency's fees. Specifically, the NRC would like stakeholder input regarding the general communications the NRC provides about its fees and the public's understanding of the NRC's fees. The information collected will be used by the NRC in developing ways to improve the transparency of its fees development and invoicing processes.

DATES: Submit information and comments by May 6, 2016. Information and comments received after this date will be considered if it is practical to do so, but the NRC is able to assure consideration only for information and comments received on or before this date.

ADDRESSES: You may submit information and comments by any of the following methods:

• Federal Rulemaking Web site: Go to http://www.regulations.gov and search for Docket ID NRC-2016-0056. Address questions about NRC dockets to Carol Gallagher; telephone: 301-415-3463; email: Carol.Gallagher@nrc.gov. For technical questions, contact the individual listed in the FOR FURTHER INFORMATION CONTACT section of this document.

• Mail information and comments to: Cindy Bladey, Office of Administration, Mail Stop: OWFN-12-H08, U.S. Nuclear Regulatory Commission, Washington, DC 20555-0001.

For additional direction on obtaining and submitting information and comments, see “Obtaining and Submitting Information and Comments” in the SUPPLEMENTARY INFORMATION section of this document.

FOR FURTHER INFORMATION CONTACT: Anna Bradford, Office of the Chief Financial Officer, U.S Nuclear Regulatory Commission, Washington, DC 20555-0001; telephone:

301-415-1560; email: Anna.Bradford@nrc.gov.

SUPPLEMENTARY INFORMATION:

I. Obtaining and Submitting Information and Comments

A. Obtaining Information

Please refer to Docket ID NRC-2016-0056 when contacting the NRC about the availability of information for this action. You may obtain publicly-available information related to this action by any of the following methods:

• Federal Rulemaking Web site: Go to http://www.regulations.gov and search for Docket ID NRC-2016-0056.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Information and Comments

Please include Docket ID NRC-2016-0056 in your submission.

The NRC cautions you not to include identifying or contact information that you do not want to be publicly disclosed in your submission. The NRC will post all submissions at http://www.regulations.gov as well as enter the submissions into ADAMS. The NRC does not routinely remove identifying or contact information.

If you are requesting or aggregating information from other persons for submission to the NRC, then you should inform those persons not to include identifying or contact information that they do not want to be publicly disclosed in their submissions. Your request should state that the NRC does not routinely edit submissions to remove such information before making the submissions available to the public or entering the submission into ADAMS.

II. Background

Each year, the NRC determines its hourly, annual, and flat fees via the rulemaking process. During that rulemaking process, the NRC receives public comments regarding the specific fees being proposed, and at times also receives more generalized comments regarding the processes that the NRC uses to calculate and communicate those fees—such comments are outside the scope of the annual rulemaking process.

In a January 30, 2015, paper to the Commission (SECY-15-0015, “Project Aim 2020 Report and Recommendations,” ADAMS Accession No. ML15012A594), the NRC staff recommended that the Office of the Chief Financial Officer (OCFO) undertake an effort to: 1) Simplify how the NRC calculates its fees, 2) improve transparency, and 3) improve the timeliness of the NRC's communications about fee changes. These areas overlap with the out-of-scope comments that the NRC at times receives during its annual fee rulemaking. In addition, the NRC staff's paper recommended that the OCFO assess alternative methods of allocating fees; specifically, the paper recommended that the OCFO look at whether the NRC should continue to assess flat fees to materials licensees, and whether the NRC should use flat fees for other regulatory activities. The Commission approved these recommendations in a Staff Requirements Memorandum dated June 8, 2015 (ADAMS Accession No. ML15159A234).

In accordance with the Commission's direction in June 2015, the NRC is now seeking input from its stakeholders. The focus of this information-gathering effort is to obtain information for the NRC to consider in evaluating the changes (if any) that the NRC can make to improve the transparency and the timeliness of its fees development and invoicing processes. Potential improvements identified as a result of this information-gathering effort may be implemented in a variety of ways, including during the development of future annual fee rulemakings or by making changes to other agency communication methods (e.g., by posting additional information to the public Web site regarding fees).

III. Requested Information and Comments

The NRC is interested in obtaining stakeholder comments regarding the general communications the NRC provides about its fees and the public's understanding of the NRC's fees. In particular, the NRC is requesting answers to the following questions:

1. What are some specific ways that the NRC can improve the public's understanding of its fees and how those fees relate to the agency's budget?

2. What are some specific improvements that could be made to the fee-related work papers or forms that would assist in the public's understanding of those papers and forms? For example, can the NRC improve the clarity and content of NRC invoice forms? If so, how?

3. How can the NRC improve its explanation of any changes to the annual fees or hourly rates in the annual fee rule?

4. What additional information can the NRC provide along with the proposed fee rule and work papers to help explain how the NRC determines fees?

5. Given the statutory requirement to base the NRC's fees on the annual appropriation enacted by Congress, are there any ways that the NRC can improve the timeliness of completing its annual fee rulemaking or communicating fee changes?

6. Are there activities that the NRC should convert from fee-billable to non-fee-billable (or vice versa) and, if so, why? For example, should hearings for new licenses be fee-billable, or should the NRC continue to recover those costs through 10 CFR part 171 annual charges?

7. Are there activities or fee classes that are more suited to flat fees rather than hourly? For example, should reviews of topical reports be subject to a flat fee or is the level of effort associated with individual topical reports too variable?

8. Are the current fee classes and categories appropriately defined? If not, how should they be revised and why?

9. Is there general information that the NRC can add to its public Web site that would assist stakeholders in their understanding of the NRC's fees development and invoicing processes?

Dated at Rockville, Maryland, this 16th day of March, 2016.
For the Nuclear Regulatory Commission.
Maureen E. Wylie,
Chief Financial Officer.

[FR Doc. 2016-06422 Filed 3-21-16; 8:45 am]

BILLING CODE 7590-01-P